GENERAL SERVICES ADMINISTRATION

[Notice-CECANF-2015-01; Docket No. 2015-0004; Sequence No. 1]

Commission To Eliminate Child Abuse and Neglect Fatalities; Announcement of Meeting

AGENCY: Commission To Eliminate Child Abuse and Neglect Fatalities.

ACTION: Meeting notice.

SUMMARY: The Commission to Eliminate Child Abuse and Neglect Fatalities (CECANF), a Federal Advisory Committee established by the Protect Our Kids Act of 2012, Public Law 112-275, will hold a meeting open to the public on Thursday, February 26, 2015 and Friday, February 27, 2015 in Portland, Oregon.

DATES: The meetings will be held on Thursday, February 26, 2015, from 8:00 a.m. to 5:30 p.m., and Friday, February 27, 2015 from 8:00 a.m. to 12:30 p.m. Pacific Standard Time.

ADDRESSES: CECANF will convene its meeting at the Marriott City Center, 520 SW Broadway, Portland, Oregon 97205. This site is accessible to individuals with disabilities. The meeting also will be made available via teleconference and/or webinar.

Submit comments identified by “Notice-CECANF-2015-01,” by either of the following methods:

• Regulations.gov: http://www.regulations.gov.

Submit comments via the Federal eRulemaking portal by searching for “Notice-CECANF-2015-01.” Select the link “Comment Now” that corresponds with “Notice-CECANF-2015-01.” Follow the instructions provided on the screen. Please include your name, organization name (if any), and “Notice-CECANF-2015-01” on your attached document.

• Mail: U.S. General Services Administration, 1800 F Street NW., Room 7003D, Washington DC 20405, Attention: Tom Hodnett (CD) for CECANF.

Instructions: Please submit comments only and cite “Notice-CECANF-2015-01” in all correspondence related to this notice. All comments received will be posted without change to http://www.regulations.gov, including any personal and/or business confidential information provided.

FOR FURTHER INFORMATION CONTACT: Visit the CECANF Web site at https://eliminatechildabusefatalities.sites.usa.gov/ or contact Patricia Brincefield, Communications Director, at 202-818-9596, U.S. General Services Administration, 1800 F Street NW., Room 7003D, Washington DC 20405, Attention: Tom Hodnett (CD) for CECANF.

SUPPLEMENTARY INFORMATION: Background: CECANF was established to develop a national strategy and recommendations for reducing fatalities resulting from child abuse and neglect.

Agenda: On February 26, 2015, Commission members will meet to hear testimony from four panels of presenters. The first panel will focus on service delivery models under way in the Pacific Northwest region that are promising in the prevention of fatalities to children not known to the child welfare system. During the second panel, Commission members will hear testimony on workforce issues that influence performance and successful strategies for addressing these issues. JooYeun Chang, Associate Commissioner of the Children's Bureau, will talk with Commissioners about the status and effectiveness of key federal policies aimed at protecting children at risk of harm. She will provide critical information regarding successful strategies that are being used by states, tribes, and localities that demonstrate reduced child abuse and neglect fatalities to children known to child welfare. In the fourth panel, Commissioners will learn about the legal framework that supports or limits government's ability to intervene on behalf of children in the family context. Commission members will then continue discussing the work plans of the six Commission subcommittees, the information that they have obtained to date, and emerging high-level recommendations.

Attendance at the Meeting: Individuals interested in attending the meeting in person or participating by webinar and teleconference must register in advance. To register to attend in person or by webinar/phone, please go to https://attendee.gotowebinar.com/rt/842048149990446850 and follow the prompts. Once you register, you will receive a confirmation email with the webinar login and teleconference number. Detailed meeting minutes will be posted within 90 days of the meeting. Members of the public will not have the opportunity to ask questions or otherwise participate in the meeting.

However, members of the public wishing to comment should follow the steps detailed under the heading ADDRESSES in this publication or contact us via the CECANF Web site at https://eliminatechildabusefatalities.sites.usa.gov/contact-us/.

Dated: January 21, 2015.
Karen White,
Executive Assistant.

[FR Doc. 2015-02052 Filed 2-2-15; 8:45 am]

BILLING CODE 6820-34-P